DEPARTMENT OF ENERGY

Secretary of Energy Advisory Board; Notice of Open Meeting

AGENCY: Department of Energy.

ACTION: Notice of open meeting.

SUMMARY: The Department of Energy hereby publishes a notice of open meeting on June 13, 2022, of the Secretary of Energy Advisory Board (SEAB). This meeting will be held virtually.

DATES: Monday, June 13, 2022; 5:00 p.m.-6:00 p.m. Eastern Time.

ADDRESSES: Virtual meeting. To register for the meeting, please follow this link: https://www.energy.gov/seab/seab-meetings.

FOR FURTHER INFORMATION CONTACT: Christopher Lawrence, Designated Federal Officer, U.S. Department of Energy, 1000 Independence Avenue SW, Washington, DC 20585; (202) 586-5260; email: seab@hq.doe.gov.

SUPPLEMENTARY INFORMATION:

Background: The Board was established to provide advice and recommendations to the Secretary on the Administration's energy policies; the Department's basic and applied research and development activities; economic and national security policy; and other activities as directed by the Secretary.

Purpose of the Meeting: For the SEAB to deliberate and vote on recommendations concerning electric grid modernization.

Tentative Agenda: The meeting will start at 5:00 p.m. on June 13th. The tentative meeting agenda includes: Introduction of SEAB's members, and deliberation and vote on recommendations. The meeting will conclude at 6:00 p.m. The meeting agenda and times may be subject to change to accommodate SEAB business.

Public Participation: The meeting is open to the public. Individuals who would like to attend must register by following this link: https://www.energy.gov/seab/seab-meetings.

Individuals and representatives of organizations who would like to offer comments and suggestions may do so during the meeting. Approximately 20 minutes will be reserved for public comments. Time allotted per speaker will depend on the number who wish to speak but will not exceed five minutes. The Designated Federal Officer is empowered to conduct the meeting in a fashion that will facilitate the orderly conduct of business. Those wishing to speak should register to do so via email, seab@hq.doe.gov, no later than 5:00 p.m. on Friday, June 10, 2022.

Those not able to attend the meeting or who have insufficient time to address the committee are invited to send a written statement to Christopher Lawrence, U.S. Department of Energy, 1000 Independence Avenue SW, Washington, DC 20585, or email to: seab@hq.doe.gov.

Minutes: The minutes of the meeting will be available on the SEAB website or by contacting Mr. Lawrence. He may be reached at the above postal address or email address, or by visiting SEAB's website at www.energy.gov/seab.

Signed in Washington, DC, on May 25, 2022.
LaTanya Butler,
Deputy Committee Management Officer.

[FR Doc. 2022-11579 Filed 5-27-22; 8:45 am]

BILLING CODE 6450-01-P